DEPARTMENT OF HOMELAND SECURITY

Coast Guard

[USCG-2008-0209]

Information Collection Request to Office of Management and Budget; OMB Control Number: 1625-0018

AGENCY: Coast Guard, DHS.

ACTION: Sixty-day notice requesting comments.

SUMMARY: In compliance with the Paperwork Reduction Act of 1995, the U.S. Coast Guard intends to submit an Information Collection Request (ICR) and Analysis to the Office of Management and Budget (OMB) requesting an extension of its approval for the following collection of information: 1625-0018, Official Logbook. Before submitting this ICR to OMB, the Coast Guard is inviting comments as described below.

DATES: Comments must reach the Coast Guard on or before June 9, 2008.

ADDRESSES: To avoid duplicate submissions to the docket [USCG-2008-0209] please use only one of the following means:

(1) Online: http://www.regulations.gov.

(2) Mail: Docket Management Facility (DMF) (M-30), U.S. Department of Transportation, West Building Ground Floor, Room W12-140, 1200 New Jersey Avenue, SE., Washington, DC 20590-0001.

(3) Hand delivery: DMF between the hours of 9 a.m. and 5 p.m., Monday through Friday, except Federal holidays. The telephone number is 202-366-9329.

(4) Fax: 202-493-2251.

The DMF maintains the public docket for this notice. Comments and material received from the public, as well as documents mentioned in this notice as being available in the docket, will become part of this docket and will be available for inspection or copying at room W12-140 on the West Building Ground Floor, 1200 New Jersey Avenue, SE., Washington, DC, between 9 a.m. and 5 p.m., Monday through Friday, except Federal holidays. You may also find this docket on the Internet at http://www.regulations.gov.

A copy of the complete ICR is available through this docket on the Internet at http://www.regulations.gov. Additionally, copies are available from Commandant (CG-611), U.S. Coast Guard Headquarters (Attn: Mr. Arthur Requina), 2100 2nd Street, SW., Washington, DC 20593-0001. The telephone number is 202-475-3523.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION:

Public Participation and Request for Comments

The Coast Guard invites comments on whether this information collection request should be granted based on it being necessary for the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2008-0209], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: Go to http://www.regulations.gov to view documents mentioned in this notice as being available in the docket. Enter the docket number [USCG-2008-0209] in the Search box, and click, “Go>>.” You may also visit the DMF in room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or by visiting http://DocketsInfo.dot.gov.

Information Collection Request

Title: Official Logbook.

OMB Control Number: 1625-0018.

Summary: The Official Logbook contains information on the vessel's crew, drills, and operations conducted during the voyage. Official Logbook entries identify all particulars of the nature of the voyage, including the name of the ship, official number, port of registry, tonnage, names, merchant mariner document numbers of the master and crew, and class of ship. In addition, it also contains entries for the vessel's drafts, maintenance of watertight integrity of the ship, drills/inspections, crew list with report of character, a summary of laws applicable to logbooks, and miscellaneous entries.

Need: Sections 11301 through 11303 of Title 46 of the United States Code (U.S.C.) require most merchant vessels to have and maintain an Official Logbook, or face penalties. See Coast Guard regulations 46 CFR 35.07-5, 78.37-3, 97.35-3, 109.431, 131.610, 196.35-3 and 197.480 as examples that reflect the requirements for various types of vessels or facilities. The Official Logbook contains information about the vessel, voyage, and crew. Lack of these particulars would make it difficult for a seaman to verify vessel employment and wages, and for the Coast Guard to verify compliance with laws and regulations concerning vessel operations and safety procedures. The Official Logbook serves as an official record of recordable events transpiring at sea such as births, deaths, marriages, disciplinary actions, etc. Absent the Official Log, there would no official civil record of these events. The courts accept log entries as proof that the logged event occurred. If this information were not collected, the Coast Guard's Commercial Vessel Safety Program would suffer, as there would be no official record of U.S. merchant vessel voyages. Similarly, those seeking to prove that a logable event occurred would not have any record available.

Forms: Official Logbook, CG-706B.

Respondents: Federal agency maritime casualty investigators, Coast Guard inspectors, and shipping companies.

Frequency: On occasion.

Burden Estimate: The estimated burden remains 1,750 hours a year.

Dated: March 28, 2008.
D.T. Glenn,
Rear Admiral, U.S. Coast Guard, Assistant Commandant for Command, Control, Communications, Computers and Information Technology.

[FR Doc. E8-7247 Filed 4-7-08; 8:45 am]

BILLING CODE 4910-15-P